DEPARTMENT OF AGRICULTURE

Natural Resources Conservation Service

Notice of Availability

AGENCY: Natural Resources Conservation Service, USDA.

ACTION: Notice of availability.

SUMMARY: The Natural Resources Conservation Service (NRCS) has prepared a plan and environmental assessment (EA) consistent with the National Environmental Policy Act of 1969, as amended. Funding for salinity control projects is available through the Environmental Quality Incentives Program which is covered by a programmatic EA. The Manila-Washam plan and EA were developed to more specifically evaluate the effects associated with this type of water quality activity. Upon review of the information in the Manila-Washam EA, the Utah NRCS State Conservationist made a Finding of No Significant Impact (FONSI) and the determination was made that no environmental impact statement is required to support the Manila-Washam Plan. Pursuant to section 102(2)(c) of the National Environmental Policy Act of 1969; the Council on Environmental Quality Regulations (40 CFR part 1500); and the Natural Resources Conservation Service Regulations (7 CFR part 650); the Natural Resources Conservation Service, U.S. Department of Agriculture, gives notice that an environmental impact statement is not being prepared for the Manila-Washam Salinity Control Project, Daggett County, Utah; and Sweetwater County, Wyoming. Written comments regarding this action may be submitted to: Sylvia Gillen, State Conservationist, USDA/NRCS, Wallace F. Bennett Federal Building, 125 South State Street, Room 4402, Salt Lake City, UT 84138-1100. Comments must be received no later than 30 days after this notice is published.

DATES: Effective Date: February 8, 2007.

FOR FURTHER INFORMATION CONTACT: Sylvia Gillen, State Conservationist, Natural Resources Conservation Service, Wallace F. Bennett Federal Building, 125 South State Street, Room 4402, Salt Lake City, UT 84138-1100; telephone (801) 524-4555.

SUPPLEMENTARY INFORMATION: The environmental assessment of this federally-assisted action documents that the project will not cause significant local, regional, State, or national impacts on the human environment. The findings of Sylvia Gillen, State Conservationist, indicate that the preparation and review of an environmental impact statement is not needed for this project.

The project purpose is to reduce salt loading to the Green River, a tributary to the Colorado River. Excessive loading is a result of seepage from the canal and delivery ditch systems and inefficient irrigation application methods and procedures. The planned works of improvement include replacement of delivery ditches with an on-farm underground pipeline delivery system; the installation of irrigation sprinkler systems; structures for water control; and wildlife habitat development. These enduring practices are accompanied by facilitating management practices such as; Irrigation Water Management, Wildlife Habitat Management Wetland, and Wildlife Habitat Management Upland.

This Notice of a Finding of No Significant Impact (FONSI) has been forwarded to the Environmental Protection Agency and to various Federal, State and local agencies and interested parties. Copies of the FONSI and Plan/Environmental Assessment are available by request from Sylvia Gillen, Utah State Conservationist. Basic data developed during the environmental evaluation are on file and may be reviewed by contacting Sylvia Gillen, Utah State Conservationist. Copies of the Plan/Environmental Assessment and FONSI may be obtained from Ms. Karyl Fritsche, District Conservationist, USDA/NRCS, 80 North, 500 West, Vernal, UT 84078; telephone: (435) 789-2100; extension 32.

No administrative action on implementation of this project will be taken until 30 days after the date of this notice is published.

(This activity is listed in the Catalog of Federal Domestic Assistance under No. 10.902, Soil and Water Conservation and Environmental Quality Incentive Program 10.912.)

Signed in Salt Lake City, Utah, on January 25, 2007.
Sylvia A. Gillen,
State Conservationist.

[FR Doc. E7-2058 Filed 2-7-07; 8:45 am]

BILLING CODE 3410-16-P